DEPARTMENT OF THE INTERIOR

National Park Service

[NPS-WASO-NAGPRA-NPS0024989; PPWOCRADN0-PCU00RP14.R50000]

Notice of Intent To Repatriate Cultural Items: U.S. Department of the Interior, National Park Service, Kaloko-Honokōhau National Historical Park, HI

AGENCY: National Park Service, Interior.

ACTION: Notice.

SUMMARY: The U.S. Department of the Interior, National Park Service, Kaloko-Honokōhau National Historical Park, in consultation with the appropriate Indian Tribes or Native Hawaiian organizations, has determined that the cultural items listed in this notice meet the definition of unassociated funerary objects. Lineal descendants or representatives of any Indian Tribe or Native Hawaiian organization not identified in this notice that wish to claim these cultural items should submit a written request to Kaloko-Honokōhau National Historical Park. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to Kaloko-Honokōhau National Historical Park at the address in this notice by March 26, 2018.

ADDRESSES: Barbara Alberti, Acting Superintendent, Kaloko-Honokōhau National Historical Park, 73-4786 Kanalani Street #14, Kailua-Kona, HI 96740, telephone (808) 329-6881 x1201, email barbara_alberti@nps.gov.

SUPPLEMENTARY INFORMATION: Notice is here given in accordance with the Native American Graves Protection and Repatriation Act (NAGPRA), 25 U.S.C. 3005, of the intent to repatriate cultural items under the control of the U.S. Department of the Interior, National Park Service, Kaloko-Honokōhau National Historical Park, City, HI, that meet the definition of unassociated funerary objects under 25 U.S.C. 3001.

This notice is published as part of the National Park Service's administrative responsibilities under NAGPRA, 25 U.S.C. 3003(d)(3). The determinations in this notice are the sole responsibility of the Superintendent, Kaloko-Honokōhau National Historical Park.

History and Description of the Cultural Items

In 1971, 15 cultural items were removed from D13-26 in Hawaii County, HI, by the University of California, Santa Barbara during extensive archeological excavations under the direction of Robert Renger. D13-26 is located on lands which now comprise Kaloko-Honokōhau National Historical Park, but the park was not established as a unit of the National Park Service until November 10, 1978. The collections were entrusted to Robert Renger by the land owner at the conclusion of fieldwork. On October 29, 1990, Robert Renger donated the Kaloko archeological collection to Kaloko-Honokōhau National Historical Park. The 15 unassociated funerary objects are 2 echinoid files, 1 bone fishhook point, 1 basalt abrader, 3 metal nails, 3 glass fragments, 1 cylindrical object, and 4 metal fragments.

D13-26 is a low platform with a low rectangular alignment and a possible fire pit. One set of human remains was identified and left in place within the low rectangular alignment further described as a crypt. Three building/use stages are identifiable at the site: the construction of the platform, the additional use of the platform, and the construction of the crypt and rectangular alignment of stones. Artifacts present at the site are representative of both pre- and post-contact time periods.

Determinations Made by Kaloko-Honokōhau National Historical Park

Officials of Kaloko-Honokōhau National Historical Park have determined that:

• Pursuant to 25 U.S.C. 3001(3)(B), the 15 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the `ohana of Kuali`i, (Guye) Lee, (Reggie) Lee, Lui, Naboa, Nazara, Palacat-Nelson, and Vincent.

Additional Requestors and Disposition

Lineal descendants or representatives of any Indian Tribe or Native Hawaiian organization not identified in this notice that wish to claim these cultural items should submit a written request with information in support of the claim to Barbara Alberti, Acting Superintendent, Kaloko-Honokōhau National Historical Park, 73-4786 Kanalani Street #14, Kailua-Kona, HI 96740, telephone (808) 329-6881 x1201, email barbara_alberti@nps.gov, by March 26, 2018. After that date, if no additional claimants have come forward, transfer of control of the unassociated funerary objects to the `ohana of Kuali`i, (Guye) Lee, (Reggie) Lee, Lui, Naboa, Nazara, Palacat-Nelson, and Vincent may proceed.

Kaloko-Honokōhau National Historical Park is responsible for notifying Makani Hou o Kaloko-Honokōhau, Na Hoa Pili o Kaloko-Honokōhau, the Office of Hawaiian Affairs, and the 'ohana of Aloua, Ayau, Ching, Cobb-Adams, DeAguiar, Haleamau, Ha`o, Harp, Keana`āina, Kuali`i, (Guye) Lee, (Reggie) Lee, Lui, Naboa, Nazara, Pai, Palacat-Nelson, Punihaole, Reeves, Roy, Springer, and Vincent that this notice has been published.

Dated: February 2, 2018.
Melanie O'Brien,
Manager, National NAGPRA Program.

[FR Doc. 2018-03637 Filed 2-21-18; 8:45 am]

BILLING CODE 4312-52-P